DEPARTMENT OF LABOR

Employment and Training Administration

[TA-W-62,484]

Halmode Apparel, Halmode/Liz Claiborne Dresses, 1400 Broadway, a Division of Kellwood Company, New York, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 10, 2008, applicable to workers of Halmode Apparel, a Division of Kellwood Company, New York, New York. The notice was published in the Federal Register on January 25, 2008 (73 FR 4634).

At the request of a company official, the Department reviewed the certification for workers of the subject firm. The workers are engaged in activities related to the production women's apparel samples and patterns.

New information provided by the company official shows that some of workers wages at Halmode Apparel are reported under Federal Employment Identification Number (FEIN) for Halmode Apparel/Liz Claiborne Dresses.

Accordingly, the Department is amending the certification to include workers of Halmode Apparel, a Division of Kellwood Company, 1400 Broadway, New York, New York, whose wages were reported under the FEIN for Halmode/Liz Claiborne Dresses.

The amended notice applicable to TA-W-62,484 is hereby issued as follows:

All workers of Halmode Apparel, Halmode/Liz Claiborne Dresses, 1400 Broadway, a Division of Kellwood Company, New York, New York, who became totally or partially separated from employment on or after November 4, 2007, through January 10, 2010, are eligible to apply for adjustment assistance under Section 223 of the Trade Act of 1974, and are also eligible to apply for alternative trade adjustment assistance under Section 246 of the Trade Act of 1974.

Signed in Washington, DC, this 2nd day of July 2009.
Linda G. Poole,
Certifying Officer, Division of Trade Adjustment Assistance.

[FR Doc. E9-16605 Filed 7-13-09; 8:45 am]

BILLING CODE 4510-FN-P